DEPARTMENT OF TRANSPORTATION

Federal Highway Administration

[Docket No. FHWA-2002-13359]

Notice of Request for Renewal of a Currently Approved Information Collection: A Guide to Reporting Highway Statistics

AGENCY: Federal Highway Administration (FHWA), DOT.

ACTION: Notice and request for comments.

SUMMARY: The FHWA invites public comments about our intention to request the Office of Management and Budget's (OMB) approval to renew the information collection that is summarized below under SUPPLEMENTARY INFORMATION. We are required by the Paperwork Reduction Act of 1995 to publish this notice in the Federal Register.

DATES: Please submit comments by November 25, 2002.

ADDRESSES: You may mail or hand deliver comments to the U.S. Department of Transportation, Dockets Management Facility, Room PL-401, 400 Seventh Street, SW., Washington, DC 20590; telefax comments to (202) 493-2251; or submit electronically at http://dmses.dot.gov/submit. All comments should include the docket number in this notice's heading. All comments may be examined and copied at the above address from 9 a.m. to 5 p.m., Monday through Friday, except Federal holidays. If you desire a receipt you must include a self-addressed stamped envelope or postcard or, if you submit your comments electronically, you may print the acknowledgment page.

FOR FURTHER INFORMATION CONTACT: Ms. Carla Mauney, (202) 366-5045, Department of Transportation, Federal Highway Administration, Office of Policy, Office of Highway Policy Information, Highway Funding and Motor Fuels (HPPI-10), 400 Seventh Street, SW., Washington, DC 20590. Office hours are from 7 a.m. to 4:30 p.m., Monday through Friday, except Federal holidays.

SUPPLEMENTARY INFORMATION: Title: A Guide to Reporting Highway Statistics.

OMB Control Number: 2125-0032 (Expiration Date: March 31, 2003).

Background: A Guide to Reporting Highway Statistics provides for the collection of information by describing policies and procedures for assembling statistical data from the existing files of State agencies. The data includes motor-vehicle registration and fees, motor-fuel use and taxation, driver licensing, and highway taxation and finance. Federal, State, and local governments use the data for transportation policy discussions and decisions. Motor-fuel data are used in attributing receipts to the Highway Trust Fund and subsequently in the apportionment formulas that are used to distribute Federal-Aid Highway Funds. The data are published annually in the FHWA's Highway Statistics and Our Nation's Highways. Information from Highway Statistics is used in the joint FHWA and Federal Transit Administration required biennial report to Congress, The Status of the Nation's Highways, Bridges, and Transit: Conditions and Performance Report to Congress, which contrasts present status to future investment needs.

Respondents: State and local governments of the 50 United States, the District of Columbia, the Commonwealth of Puerto Rico, and the four territories (American Samoa, Guam, Northern Marianas, and Virgin Islands).

Estimated Average Burden Per Response: The estimated average reporting burden per response for the annual collection of the data is 825.6 hours for the States and the District of Columbia; and 20 hours for the Commonwealth of Puerto Rico and each of the four territories.

Estimated Total Annual Burden: The estimated total annual burden for all respondents is 42,206 hours.

Public Comments Invited

You are asked to comment on any aspect of this information collection, including: (1) Whether the proposed collection is necessary for the FHWA's performance; (2) the accuracy of estimated burdens; (3) ways for the FHWA to enhance the quality, usefulness, and clarity of the collected information; and (4) ways that burdens could be minimized, including use of electronic technology, without reducing the quality of the collected information. The agency will summarize and/or include your comments in the request for OMB's clearance of this information collection.

Electronic Access

Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's Home Page at http://www.nara.gov/fedreg and the Government Printing Office's database at http://www.access.gpo.gov/nara.

Authority: The Paperwork Reduction Act of 1995; 44 U.S.C. Chapter 35, as amended; and 49 CFR 1.48.

Issued on: September 19, 2002.
James R. Kabel,
Chief, Management Programs and Analysis Division.

[FR Doc. 02-24254 Filed 9-23-02; 8:45 am]

BILLING CODE 4910-22-P